DEPARTMENT OF COMMERCE

National Oceanic and Atmospheric Administration

RIN 0648-XC01

Fisheries of the Caribbean, Gulf of Mexico, and South Atlantic; Snapper-Grouper Fishery off the South Atlantic States; Amendment 16; Correction

AGENCY: National Marine Fisheries Service (NMFS), National Oceanic and Atmospheric Administration (NOAA), Commerce.

ACTION: Notice of intent (NOI) to prepare a draft environmental impact statement (DEIS); correction.

SUMMARY: This document contains a correction to the NOI to prepare a DEIS for Amendment 16 to the Snapper-Grouper Fishery Management Plan of the South Atlantic Region, that was published in the Federal Register Wednesday, August 15, 2007.

DATES: Written comments on the scope of issues to be addressed in the DEIS will be accepted through September 17, 2007.

FOR FURTHER INFORMATION CONTACT: Anik Clemens, telephone: 727-824-5305; fax: 727-824-5308; e-mail: Anik.Clemens@noaa.gov.

SUPPLEMENTARY INFORMATION: The NOI that is the subject of this correction was published Wednesday, August 15, 2007 (72 FR 45739). The NOI contains an error in the DATES section regarding the acceptable end date to submit written comments on the NOI. The error has been corrected in the DATES section in this document. All other information remains unchanged and will not be repeated in this correction.

Authority: 16 U.S.C. 1801 et seq.

Dated: August 17, 2007.
James P. Burgess,
Acting Director, Office of Sustainable Fisheries, National Marine Fisheries Service.

[FR Doc. 07-4133 Filed 8-20-07; 1:44 pm]

BILLING CODE 3510-22-S